NATIONAL SCIENCE FOUNDATION

Proposal Review Panel for International Science and Engineering; Notice of Meeting

In accordance with the Federal Advisory Committee Act (Pub. L. 92-463, as amended), the National Science Foundation (NSF) announces the following meeting:

Name and Committee Code: Proposal Review Panel for Office of International Science and Engineering—PIRE: Science of Design for Societal-Scale Cyber-Physical Systems (10749)—Site Visit.

Date and Time: April 2, 2020, 7:00 a.m.-8:30 p.m.; April 3, 2020, 7:00 a.m.-4:30 p.m.

Place: Vanderbilt University, 2201 West End Ave., Nashville, TN 37235.

Type of Meeting: Part-open.

Contact Person: Cassandra Dudka, PIRE Program Manager, National Science Foundation, 2415 Eisenhower Avenue, Alexandria, VA 22314; Telephone 703/292-7250.

Purpose of Meeting: NSF site visit to conduct a review during year 3 of the five-year award period. To conduct an in-depth evaluation of performance, to assess progress towards goals, and to provide recommendations.

Agenda: See attached.

Reason for Closing: Topics to be discussed and evaluated during closed portions of the site review will include information of a proprietary or confidential nature, including technical information; and information on personnel. These matters are exempt under 5 U.S.C. 552b(c), (4) and (6) of the Government in the Sunshine Act.

Dated: February 27, 2020.
Crystal Robinson,
Committee Management Officer.

National Science Foundation, 2415 Eisenhower Avenue, Alexandria, VA 22314

Partnerships for International Research and Education (PIRE)

PIRE Site Visit Agenda

Day 1

7:00 a.m.-8:00 a.m. Travel to site review location, breakfast

8:00 a.m.-10:00 a.m. Introductions

PIRE Rationale and Goals

Research

10:00 a.m.-10:20 a.m. NSF Executive Session/Break (Closed)

Administration, Management, and Budget

Facilities and Physical Infrastructure

12:00 p.m.-12:30 p.m. NSF Executive Session (Closed)

12:30 p.m.-1:30 p.m. Lunch—Discussion with Students (NSF, Reviewers and students)

1:30 p.m.-3:00 p.m. Integrating Research and Education

Developing Human Resources

Integrating Diversity

3:00 p.m.-3:30 p.m. NSF Executive Session/Break (Closed)

3:30 p.m.-4:15 p.m. Partnerships

4:15 p.m.-5:15 p.m. Wrap up

5:15 p.m.-6:15 p.m. Executive Session/Break—Develop Critical Feedback for PI (Closed)

6:15 p.m. Critical Feedback Provided to PI (Closed)

6:30 p.m.-8:30 p.m. NSF Executive Session/Working Dinner (Closed)

Day 2

7:00 a.m.-8:00 a.m. Travel to site visit location, breakfast

8:00 a.m.-9:00 a.m. Institutional Support: Meeting with administrators and investigators

9:00 a.m.-10:00 a.m. Summary: PIRE Team Response to reviewers' findings (Closed)

10:00 a.m.-4:00 p.m. Site Review Team Prepares Site Visit Report (Closed)

(Working Lunch Provided)

4:00 p.m.-4:30 p.m. Presentation of Site Visit Report to Principal Investigator (Closed)

[FR Doc. 2020-04338 Filed 3-2-20; 8:45 am]

BILLING CODE 7555-01-P